DEPARTMENT OF TRANSPORTATION

Pipeline and Hazardous Materials Safety Administration

Office of Hazardous Materials Safety; Notice of Application for Special Permits

AGENCY: Pipeline and Hazardous Materials Safety Administration (PHMSA), DOT.

ACTION: List of applications for special permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before July 19, 2010.

ADDRESS COMMENTS TO: Record Center, Pipeline and Hazardous Materials, Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, Southeast, Washington DC or at http://regulations.gov.

This notice of receipt of applications for special permit is published in accordance with Part 107 of the Federal hazardous materials transportation law (49 U.S.C. 5117(b); 49 CFR 1.53(b)).

Issued in Washington, DC, on June 9, 2010.
Delmer F. Billings,
Director, Office of Hazardous Materials, Special Permits and Approvals.

Application No. | Docket No. | Applicant | Regulation(s) affected | Nature of special permits thereof
NEW SPECIAL PERMITS
15025-N |  | Burlington Containers Brooklyn, NY | 49 CFR 173.226 and 173.227 | To authorize the transportation in commerce of certain materials toxic by inhalation, Hazard Zone A and B, in alternative packaging (mode 1).
15027-N |  | Northrop Gruman Corporation Baltimore, MD | 49 CFR 173.304a and 173.301(f) | To authorize the transportation in commerce of anhydrous ammonia in non-DOT specification packaging (heat pipes) (modes 1, 3, 4).
15028-N |  | Roeder Cartage Company LIMA, OH | 49 CFR § 180.407 | To authorize the transportation in commerce of certain DOT specification cargo tank motor vehicles that have been tested using alternative methods for the internal visual inspection. (mode 1).
15031-N |  | Euro Asia Packaging (Guangdon) Co., Ltd. ZhongShan, Canton | 49 CFR 173.304(d), 173.306(a) and 178.33a | To authorize the manufacture, marking, sale and use of inner metal receptacles similar to the DOT 2Q specification for the transportation in commerce of certain compressed gases. (modes 1, 2, 3, 4).
15036-N |  | UTLX Manufacturing, Incorporated Alexandria, LA | 49 CFR 173.31(e)(2)(ii), 173.244(a)(2), 173.314, 179.100, 179.101, 179.102-3, 179.15(b) and 179.16 | To authorize the manufacture, marking, sale and use of a non-DOT specification tank car for transportation of chlorine and certain other materials toxic by inhalation. (mode 2).
15037-N |  | National aeronautics and Space Administration (NASA) Washington, DC | 49 CFR 173.226 and 173.336 | To authorize the transportation in commerce of non-DOT specification packaging for the transportation in commerce of Dinitrogen tetroxide and Methylhydrazine by motor vehicle. (mode 1).
15038-N |  | The American Pacific Corporation—In Space Propulsion Niagara Falls, NY | 49 CFR 173.24 (a)(1) and (2) and 173.201 | To authorize the transportation in commerce of Hydrazine, anhydrous in non-DOT specification packaging (Propellant Storage Assembly) by motor vehicle. (mode 1).

[FR Doc. 2010-14426 Filed 6-16-10; 8:45 am]

BILLING CODE 4909-60-M